DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Recreational Fishing Expenditure Survey.

OMB Control Number: None.

Form Number(s): NA.

Type of Request: Regular submission (request for a new information collection).

Number of Respondents: 32,958.

Average Hours per Response: Trip expenditures intercept survey, 5 minutes; mail trip expenditure survey, 8 minutes; mail durable goods survey, 15 minutes; Highly Migratory Species durable goods and trip expenditure survey, 20 minutes.

Burden Hours: 3,804.

Needs and Uses: This request is for a new collection of information.

The objective of the survey is to collect information on both trip expenditures and annual durable goods expenditures made by marine recreational anglers. The survey will be conducted in two parts. The first part of the survey, planned for 2014, will ask anglers about their purchases of durable goods such as fishing gear, boats, vehicles, and second homes. The second part, planned for 2016, will ask anglers about the expenses incurred on their most recent marine recreational fishing trip. As specified in the Magnuson-Stevenson Fishery Conservation and Management Act of 1996 (and reauthorized in 2007), NMFS is required to enumerate the economic impacts of the policies it implements on fishing participants and coastal communities. The expenditure data collected in this survey will be used to estimate the economic contributions and impacts of marine recreational fishing to each coastal state and nationwide.

Affected Public: Individuals or households.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: February 10, 2014.
Gwellnar Banks,
Management Analyst, Office of the Chief Information Officer.

[FR Doc. 2014-03136 Filed 2-12-14; 8:45 am]

BILLING CODE 3510-22-P